DEPARTMENT OF JUSTICE

Notice of Lodging of Proposed Consent Decree Under the Clean Air Act

On June 24, 2015, the Department of Justice lodged a proposed Consent Decree with the United States District Court for the District of New Mexico in the lawsuit entitled United States v. Arizona Public Service Company, et al., Civil Case No. 1:15-cv-00537 (D. N.M.).

In this civil enforcement action under the federal Clean Air Act (“Act”), the United States alleges that Arizona Public Service Company, El Paso Electric Company, Public Service Company of New Mexico, Salt River Project Agricultural Improvement and Power District, Tucson Electric Power Company, and Southern California Edison Company (collectively the “Defendants”), failed to comply with certain requirements of the Act intended to protect air quality at the Four Corners Power Plant located near Shiprock, New Mexico. The complaint seeks injunctive relief and civil penalties for violations of the Clean Air Act's Prevention of Significant Deterioration (“PSD”) provisions, 42 U.S.C. 7470-92, and various Clean Air Act implementing regulations. The complaint alleges that Defendants failed to obtain appropriate permits and failed to install and operate required pollution control devices to reduce emissions of sulfur dioxide (“SO2”) and/or nitrogen oxides (“NOX”) at the Four Corners Power Plant.

The proposed Consent Decree would resolve violations for certain provisions of the Act at the Four Corners Power Plant, and would require the Defendants to reduce harmful SO2, NOX, and particulate matter emissions through the installation and operation of pollution controls. The Defendants will also spend $6,700,000 to fund environmental mitigation projects that will further reduce emissions and benefit communities adversely affected by the pollution from the plant, and pay a civil penalty of $1,500,000.

The publication of this notice opens a period for public comment on the proposed Consent Decree. Comments should be addressed to the Assistant Attorney General, Environment and Natural Resources Division, and should refer to United States v. Arizona Public Service Company, et al., Civil Case No. 1:15-cv-00537 (D. N.M.), D.J. Ref. No. 90-5-2-1-10300. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Consent Decree may be examined and downloaded at this Justice Department Web site: http://www.justice.gov/enrd/consent-decrees. We will provide a paper copy of the proposed Consent Decree upon written request and payment of reproduction costs. Please mail your request and payment to: Consent Decree Library, U.S. DOJ-ENRD, P.O. Box 7611, Washington, DC 20044-7611.

Please enclose a check or money order for $23.50 (25 cents per page reproduction cost) payable to the United States Treasury.

Maureen Katz,
Assistant Section Chief, Environmental Enforcement Section, Environment and Natural Resources Division.

[FR Doc. 2015-15952 Filed 6-29-15; 8:45 am]

BILLING CODE 4410-15-P